DEPARTMENT OF LABOR

Employment and Training Administration

[SGA/DFA-PY-08-19]

Solicitation for Grant Applications (SGA) Amendment Two; Pathways Out of Poverty

AGENCY: Employment and Training Administration (ETA), Labor.

ACTION: Notice: Amendment to SGA/DFA-PY-08-19.

SUMMARY: The Employment and Training Administration published a document in the Federal Register on June 24, 2009, announcing the availability of funds and solicitation for grant applications (SGA) for Pathways Out of Poverty to be awarded through a competitive process. This amendment to the SGA clarifies items related to: (1) Use of funds for supportive services (section IV.F); and (2) identifying PUMA(s) to be served (section VIII.A.1). The document is hereby amended.

1. “Use of Funds for Supportive Services” section IV.F (page 30145) is revised as follows to indicate a change in the amount of grant funds that may be used for supportive services:

a. Old Text—“Grantees may use no more than 5% of their grant funds on these services.”

b. New Text—“Grantees may use no more than 10% of their grant funds on these services.”

2. “Identify PUMA(s) to be Served” section VIII.A.1 (page 30151) is revised to include the following paragraph at the end of the section regarding additional resources on PUMAs that may be helpful:

a. New Text—“Applicants should note that the PUMA maps display the outlines of census tracts but do not show census tract numbers or street names. Applicants looking for additional information on the street-level boundaries of PUMAs should cross-reference the appropriate PUMA map, which can be found here (http://www.census.gov/geo/www/maps/puma5pct.htm) with the appropriate census tract maps, which can be found here (http://ftp2.census.gov/plmap/pl_trt/). Follow the census tract map link above, which will display a list of States. Click on the appropriate State, and then click the appropriate county for a directory of map files for that county. Each county directory contains map files that show numbered census tracts and street names for specific areas within the county. For some counties, the first file in the directory will be an overview map of the entire county, which serves as an index for the remaining map files. Applicants can then match the census tract outlines on the PUMA map with the numbered census tracts depicted on the census tract maps. Identifying the census tracts that serve as the outer edge of the PUMA and zooming in on the census tract maps to see the street names will help applicants to identify the street-level boundaries of the PUMA.”

FOR FURTHER INFORMATION CONTACT: Melissa Abdullah, Grants Management Specialist, Division of Federal Assistance, at (202) 693-3346.

Signed at Washington, DC, this 11th day of August 2009.
Donna Kelly,
Grant Officer, Employment & Training Administration.

[FR Doc. E9-19510 Filed 8-13-09; 8:45 am]

BILLING CODE 4510-FN-P